DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey November Email Address Collection Test Supplement.

OMB Control Number: None.

Form Number(s): None.

Type of Request: New collection.

Burden Hours: 1,375.

Number of Respondents: 27,500.

Average Hours per Response: 3 minutes.

Needs and Uses: The Census Bureau requests clearance for the collection of data concerning the November 2013 Email Address Collection Test Supplement. The Census Bureau and the Bureau of Labor Statistics (BLS) sponsor the Current Population Survey (CPS) which has been conducted for over 70 years.

The CPS has collected data on household employment for decades. Through the years, survey improvements were made to keep the data quality and survey response rates high. Over the last few years, CPS, like many surveys, has seen response rates declining slowly. A review of paradata has found one of the main reasons for this decline is not just refusals but also respondent avoidance (i.e. the interviewers are unable to make contact with the respondent). This has led to an effort to think of new ways to contact respondents and reduce respondent burden so that they may be more likely to answer CPS over the many months needed.

One of the solutions recommended is to research the possibility of using the Internet as a data collection mode as well as a tool to help increase response rates. We foresee that in the future, we could collect email addresses from our respondents. For those that are eligible, we could then send an email to the respondent with a secure link allowing the respondent to complete the CPS the next month over the Internet and in turn, keep up response rates while lowering costs of interviewing. Internet is not limited to just a survey data collection mode. These emails could be used for other contacts as well. We could allow the respondent to set up a time to meet with the interviewer at their convenience and save on travel costs associated with the multiple personal visits. The email could also serve as a “Thank You” with information that lets respondents know their participation is helping improve the quality of our data.

This supplement is the first step in the review of the feasibility of this plan. It will test the ability of collecting email addresses and collecting interest in being contacted by email or answering the survey through the Internet for possible future enhancements to CPS.

The information collected during this field test will primarily be used to determine the ability to collect email addresses for respondents and review characteristics of those respondents. We will review to see what factors or characteristics of the household, respondent or the interview effect the ability to collect a valid address. We will also use the data to see how the respondents respond on interest in other modes. Again, we will look at this data across housing, person and interview characteristics to see if they impact the responses.

The results of this test will inform us whether there are enough respondents willing to do CPS by self-administered web that we could contact through email to pursue the next steps in development and testing of new modes of contact and collection for CPS. The overall combination of results of email address collection and opinions given will be used in determining next steps.

Affected Public: Individuals or households.

Frequency: One time.

Respondent's Obligation: Voluntary.

Legal Authority: Title 13, United States Code, Sections 141, 181, and 182 and Title 29, United States Code, Sections 1-9.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: September 24, 2013.
Glenna Mickelson,
Management Analyst, Office of the Chief Information Officer.

[FR Doc. 2013-23577 Filed 9-26-13; 8:45 am]

BILLING CODE 3510-07-P